OFFICE OF PERSONNEL MANAGEMENT

The National Partnership Council, Notice of Meeting

AGENCY: Office of Personnel Management.

ACTION: Notice of meeting.

TIME AND DATE: 1:30 p.m., January 11, 2001.

PLACE: OPM Conference Center, Room 1350, U.S. Office of Personnel Management, Theodore Roosevelt Building, 1900 E Street, NW., Washington, DC. The conference center is located on the first floor.

STATUS: This meeting will be open to the public. Seating will be available on a first-come, first-serve basis. Individuals with special access needs wishing to attend should contact OPM at the number shown below to obtain appropriate accommodations.

MATTERS TO BE CONSIDERED: Dr. Marick Masters, University of Pittsburgh, will present the findings of the NPC Research Project.

CONTACT PERSON FOR MORE INFORMATION: Jeff Sumberg, Director, Office of Labor and Employee Relations, Office of Personnel Management, Theodore Roosevelt Building, 1900 E Street, NW., Room 7H28, Washington, DC 20415-2000, (202) 606-2930.

Office of Personnel Management.
Janice R. Lachance,
Director.

[FR Doc. 01-174 Filed 1-3-01; 8:45 am]

BILLING CODE 6325-01-P